DEPARTMENT OF HOMELAND SECURITY

Coast Guard

33 CFR Part 117

[Docket No. USCG-2015-0113]

Drawbridge Operation Regulation; Appomattox River, Hopewell, VA

AGENCY: Coast Guard, DHS.

ACTION: Notice of deviation from drawbridge regulations.

SUMMARY: The Coast Guard has issued a temporary deviation from the operating schedule that governs the draw of the Seaboard System Railroad (CSX Railroad) Bridge, across Appomattox River, mile 2.5, Hopewell, VA. This deviation is necessary to conduct bridge upgrades. This temporary deviation allows the swing bridge to remain in the closed to navigation position to facilitate bridge upgrades.

DATES: This deviation is effective from 7 a.m. on March 7, 2015 to 8 p.m. on March 8, 2015.

ADDRESSES: The docket for this deviation, [USCG-2015-0113] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Jim Rousseau, Bridge Administration Branch Fifth District, Coast Guard; telephone (757) 398-6557, email James.L.Rousseau2@uscg.mil. If you have questions on reviewing the docket, call Cheryl Collins, Program Manager, Docket Operations, 202-366-9826.

SUPPLEMENTARY INFORMATION: The CSX Corporation, who owns and operates this swing bridge, has requested a temporary deviation from the current operating regulations set out in 33 CFR 117.995 to facilitate bridge upgrades.

Under the regular operating schedule, the Seaboard System Railroad (CSX Railroad) Bridge, mile 2.5, in Hopewell, VA, must open on signal if at least 24 hour notice is given. The draw normally is in the closed to navigation position and only opens when proper notice is given. The Seaboard System Railroad (CSX Railroad) Bridge has a vertical clearance in the closed position to vessels of 10 feet above mean high water.

Under this temporary deviation, the drawbridge will be maintained in the closed to navigation position from 8 a.m. Saturday March 8, 2015, until 8 p.m. Sunday March 9, 2015. The bridge will operate under the normal operating schedule at all other times. Emergency openings cannot be provided. There are no alternate routes for vessels transiting this section of the Appomattox River but vessels may pass before 8 a.m. on March 8, 2015, and after 8 p.m. on March 9, 2015, with advance notice.

Appomattox River is used by a variety of vessels including commercial and recreational vessels. The Coast Guard has carefully coordinated the restrictions with these waterway users. The Coast Guard will also inform additional waterway users through our Local and Broadcast Notice to Mariners of the closure periods for the bridge so that vessels can arrange their transits to minimize any impacts caused by the temporary deviation. Mariners able to pass under the bridge in the closed position may do so at any time. Mariners are advised to proceed with caution.

In accordance with 33 CFR 117.35(e), the drawbridge must return to its regular operating schedule immediately at the end of the designated time period.

This deviation from the operating regulations is authorized under 33 CFR 117.35.

Dated: February 20, 2015
James L. Rousseau,
Bridge Program Manager, Fifth Coast Guard District.

[FR Doc. 2015-04482 Filed 3-3-15; 8:45 am]

BILLING CODE 9110-04-P